DEPARTMENT OF TRANSPORTATION

Office of the Secretary

Notice of Applications for Certificates of Public Convenience and Necessity and Foreign Air Carrier Permits Filed Under Subpart B (Formerly Subpart Q) During the Week Ending October 29, 2004

The following Applications for Certificates of Public Convenience and Necessity and Foreign Air Carrier Permits were filed under Subpart B (formerly Subpart Q) of the Department of Transportation's Procedural Regulations (see 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: OST-2004-19500.

Date Filed: October 26, 2004.

Due Date for Answers, Conforming Applications, or Motion to Modify Scope: November 16, 2004.

Description: Application of Air Executive LU.at GmbH requesting a foreign air carrier permit authorizing it to conduct charter foreign air transportation of persons, property, and mail between any point or points in Austria and any point or points in the United States; and between any point or points in the United States and any point or points in a third country or countries, provided that such service constitutes part of a continuous operation, with or without a change of aircraft, that includes air service to Austria for the purpose of carrying local traffic between Austria and the United States, and other charters between third countries and the United States.

Docket Number: OST-2004-19518.

Date Filed: October 28, 2004.

Due Date for Answers, Conforming Applications, or Motion to Modify Scope: November 18, 2004.

Description: Application of Aviation Ventures, Inc. d/b/a Vision Air requesting a certificate of public convenience and necessity to engage in interstate scheduled air transportation of passengers, property, and mail using 19 passenger seat aircraft.

Docket Number: OST-2004-19543.

Date Filed: October 29, 2004.

Due Date for Answers, Conforming Applications, or Motion to Modify Scope: November 19, 2004.

Description: Application of Lakeland Air Transport, Inc., requesting a certificate of public convenience and necessity to engage in interstate air transportation of persons, property, and mail operating 5 roundtrip flights between Ft. Lauderdale, FL and Gulfport, MS.

Andrea M. Jenkins,
Program Manager, Docket Operations, Federal Register Liaison.

[FR Doc. 04-25410 Filed 11-15-04; 8:45 am]

BILLING CODE 4910-62-P